DEPARTMENT OF DEFENSE

Department of the Army; Corps of Engineers

Availability of the Draft Environmental Impact Statement/Environmental Impact Report for the San Luis Obispo Creek Watershed Waterway Management Plan, City and County of San Luis Obispo, CA

AGENCY: U.S. Army Corps of Engineers, DoD.

ACTION: Notice of availability.

SUMMARY: The U.S. Army Corps of Engineers is issuing this notice to advise the public that a Draft Environmental Impact Statement (DEIS) has been prepared for the San Luis Obispo Creek Watershed Waterway Management Plan within the City and County of San Luis Obispo, California and is available for review and comment.

DATES: In accordance with the National Environmental Policy Act (NEPA), we have filed the DEIS with the Environmental Protection Agency (EPA) for publication of their notice of availability in the Federal Register. The EPA notice officially starts the 45-day review period for this document. It is the goal of the Corps of Engineers to have the COE notice published on the same date as the EPA notice. However, if that does not occur, the date of the EPA notice will determine the closing date for comments on the DEIS. Comments on the Draft EIS must be submitted to the address below under Further Contact Information and must be received no later than 5 p.m. Pacific Standard Time, Monday, May 9, 2005.

ADDRESSES: The Draft Environmental Impact Statement/Environmental Impact Report can be viewed online at http://www.slocity.org/publicworks/documents.asp (Waterway Management Plan documents). Copies of the Draft Environmental Impact Statement/Environmental Impact Report and appendices are also available for review at the following government offices and libraries:

Government Offices—City Public Works Department, 955 Morro Street, San Luis Obispo, California.

Libraries: San Luis Obispo City/County Library, 995 Palm Street, San Luis Obispo, CA 93401.

FOR FURTHER INFORMATION CONTACT: Bruce Henderson, Senior Project Manager, U.S. Army Corps of Engineers, Ventura Regulatory Field Office, 2151 Alessandro Drive, Suite 110, Ventura, California 93001, Telephone: 805/585-2145, bruce.a.henderson@usace.army.mil.

SUPPLEMENTARY INFORMATION: This EIS was prepared as part of a joint document by the U.S. Army Corps of Engineers in conjunction with the City of San Luis Obispo and the San Luis Obispo County Flood Control & Water Conservation District (Zone 9) (City/Zone 9) pursuant to corresponding responsibilities under NEPA and the California Environmental Quality Act (CEQA, resulting in preparation of an Environmental Impact Report).

The Corps of Engineers and City/Zone 9 prepared the Draft EIS/EIR evaluating the potential environmental impacts of the proposed San Luis Obispo Creek Watershed Waterway Management Plan (Program). The Program is a combination of policies, programs and plans proposed to address flooding and flood control along San Luis Obispo Creek and its tributaries on a regional or watershed-wide basis. Project planning for activities and development within and affecting the stream corridor has historically been managed or guided by policies of various agencies with little coordinated effort at consistent management techniques. The Program is comprised of a Waterway Management Plan (WMP), Stream Maintenance and Management Plan (SMMP), and Drainage Design Manual (DDM), which represent a consolidated effort to provide a consistent management program for the waterway and watershed.

There is a history of flooding along SLO Creek, with its attendant problems of erosion, and water quality and ecological issues. However, there are relatively few structural flood control features. The City/Zone 9 identified the need to manage flooding within the SLO Creek watershed because urban uses have developed along the creek and its tributaries in the natural floodway. The under-city culvert and other manmade structures have reduced the capacity of the creek to convey floodwaters. The Program's objectives include (1) identification and prioritization of the amount and extent of flooding, erosion, water quality and ecological issues in the SLO Creek; (2) identification and development of programs to address these issues; (3) preparation of guidelines for design of future development and reconstructed developments in the SLO Creek watershed; (4) preparation of a programmatic environmental and permitting review process for implementation of Objectives 2 and 3 as applicable; and (5) development of an implementation program. It is anticipated this Program will result in a means by which the Corps and other pertinent agencies may comprehensively assess identified proposed actions within jurisdictional waters of the United States that encompass standard maintenance and replacement or improvement of existing flood structures, or repair of banks, channels, and stream habitats, and could include identified stream bank repair projects provided they are consistent with the Program. Other capital improvement projects for flood management not part of the City/Zone 9 Annual Work Plan would be subject to further review by the Corps and the local agency prior to implementation.

Currently, the Corps asserts discretionary authority over bank stabilization measures within the SLO Creek and its tributaries. This was based on a determination that proposals to channelize or otherwise substantially impact the Creek and its tributaries, such as by armoring the banks, would result in greater than minimal cumulative impacts. In 1996, the Corps requested that a comprehensive plan for the watershed be developed, the purpose and focus of which to ensure that aquatic resource impacts are avoided and minimized to the maximum extent practicable. The Corps suggested that the plan include an analysis of alternatives that meet the overall project purpose of anticipated flood control needs, an assessment of habitat quantity and quality, an assessment of habitat fragmentation along the stream corridors, and mitigation measures to offset unavoidable adverse impacts.

Dated: March 10, 2005.
Alex C. Dornstauder,
Colonel, U.S. Army, District Engineer.

[FR Doc. 05-5903 Filed 3-24-05; 8:45 am]

BILLING CODE 3710-92-P